DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security.

Title: Voluntary Self-Disclosure of Antiboycott Violations.

OMB Control Number: 0694-0132.

Form Number(s): N/A.

Type of Request: Regular submission.

Burden Hours: 7,230.

Number of Respondents: 15.

Average Hours per Response: 10 to 600.

Needs and Uses: This collection of information supports enforcement of the Antiboycott provisions for the Export Administration Regulations (EAR) by providing a method for industry to voluntarily self-disclose Antiboycott violations.

Affected Public: Business or other for-profit organizations; not-for-profit institutions.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov.

Written comments and recommendations for the proposed information collection should be sent within 30 days of publication of this notice to Jasmeet Seehra, OMB Desk Officer, via e-mail to Jasmeet_K._Seehra@omb.eop.gov, or Fax to (202) 395-5167.

Dated: December 9, 2010.
Gwellnar Banks,
Management Analyst, Office of the Chief Information Officer.

[FR Doc. 2010-31293 Filed 12-13-10; 8:45 am]

BILLING CODE 3510-33-P